DEPARTMENT OF ENERGY

Federal Energy Regulatory Commission

[Docket No. RP03-7-000]

Natural Gas Pipeline Company of America; Notice of Extension of Time

December 6, 2002.

On December 4, 2002, Natural Gas Pipeline Company of America (Natural) filed a motion for an extension of time within which to submit its data responses as required by the request from Commission Staff issued November 21, 2002, in the above-docketed proceeding. The data request requires a response to be filed by December 4, 2002. In its motion, Natural states that due to the Thanksgiving holiday and the press of other business, a brief extension of time is necessary to complete and file its data responses.

Upon consideration, notice is hereby given that an extension of time for Natural to file its data responses, as directed by the Commission Staff's November 21, 2002 request, is granted to and including December 6, 2002, as requested by Natural.

Magalie R. Salas,
Secretary.

[FR Doc. 02-31330 Filed 12-11-02; 8:45 am]

BILLING CODE 6717-01-P